DEPARTMENT OF ENERGY

Federal Energy Regulatory Commission

[Docket No. ER02-2483-000, et al.]

Idaho Power Company, et al.; Electric Rate and Corporate Regulation Filings

August 26, 2002.

The following filings have been made with the Commission. The filings are listed in ascending order within each docket classification.

1. Idaho Power Company

[Docket No. ER02-2483-000]

Take notice that on August 21, 2002, Idaho Power Company filed Service Agreements for Firm and Non-Firm Point-to-Point Transmission Service between Idaho Power Company and Enron Power Marketing, Inc. under its open access transmission tariff in the above-captioned proceeding.

Comment Date: September 11, 2002.

2. Virginia Electric and Power Company

[Docket No. ER02-2485-000]

Take notice that on August 21, 2002, Virginia Electric and Power Company, doing business as Dominion Virginia Power, tendered for filing with the Federal Energy Regulatory Commission (Commission) an executed Generator Interconnection and Operating Agreement (Interconnection Agreement) between Dominion Virginia Power and CPV Cunningham Creek LLC (CPV) containing revised Appendices C, F and G and correcting typographical errors.

Dominion Virginia Power respectfully requests that the Commission accept the Interconnection to allow it to become effective on December 11, 2001, the same date the Commission made the Interconnection Agreement effective in its December 11, 2001 order.

Copies of the filing were served upon CPV and the Virginia State Corporation Commission.

Comment Date: September 11, 2002.

3. Virginia Electric and Power Company

[Docket No. ER02-2486-000]

Take notice that on August 22, 2002, Virginia Electric and Power Company (Dominion Virginia Power) tendered for filing with the Federal Energy Regulatory Commission (Commission) a revised Generator Interconnection and Operating Agreement with Industrial Power Generating Corporation (Ingenco). The Revised Interconnection Agreement has been modified to reflect the increase in initial capacity from Ingenco's generating facility from 12 MWs to 16 MWs.

Dominion Virginia Power requests that the Commission make the agreement effective August 23, 2002.

Copies of the filing were served upon Industrial Power Generating Corporation and Virginia State Corporation Commission.

Comment Date: September 12, 2002.

4. California Independent System Operator Corporation

[Docket No. ER02-2487-000]

Take notice that on August 22, 2002, the California Independent System Operator Corporation (ISO) tendered for filing First Revised Service Agreement No. 381 under the Original Rate Schedule No. 1, which is a Participating Generator Agreement (PGA) between the ISO and Metropolitan Water District of Southern California (MWD). The ISO has revised the PGA to update Original Volume No. 1 of the PGA. The ISO requests that the revised PGA be made effective as of March 15, 2001.

The ISO states that this filing has been served on MWD and the California Public Utilities Commission.

Comment Date: September 12, 2002.

5. California Independent System Operator Corporation

[Docket No. ER02-2488-000]

Take notice that on August 22, 2002, the California Independent System Operator Corporation (ISO) tendered for filing First Revised Service Agreement No. 356 under the Original Rate Schedule No. 1, which is a Participating Generator Agreement (PGA) between the ISO and Colton Power, LP (Colton) (formerly Alliance Colton, LLC). The ISO has revised the PGA to update Original Volume No. 1 of the PGA. The ISO requests that the revised PGA be made effective as of March 21, 2000.

The ISO states that this filing has been served on Colton and the California Public Utilities Commission.

Comment Date: September 12, 2002.

6. California Independent System Operator Corporation

[Docket No. ER02-2489-000]

Take notice that on August 22, 2002, the California Independent System Operator Corporation (ISO) tendered for filing a revision to Appendix A of the Responsible Participating Transmission Owner Agreement between the ISO and Pacific Gas and Electric Company (PG&E). The ISO states that the revision modifies the Appendix to remove two previously terminated Sacramento Municipal Utility District (SMUD) transmission agreements and PG&E's Scheduling Coordinator responsibility for the remaining SMUD transmission agreements, effective with the operation of SMUD's new control area; correct the footnote regarding the California Power Exchange performing as Scheduling Coordinator for certain PG&E-Western existing contracts; and remove Destect Power Services form Appendix A.

The ISO states that this filing has been served on SMUD, the California Public Utilities Commission and all entities that are on the official service list for Docket No. ER98-1057-000.

Comment Date: September 12, 2002.

7. Ameren Services Company

[Docket No. ER02-2490-000]

Take notice that on August 22, 2002, Ameren Services Company (ASC) tendered for filing Service Agreements for Firm Point-to-Point Transmission Service and Non-Firm Point-to-Point Transmission Service between ASC and Conoco, Inc. ASC asserts that the purpose of the Agreements is to permit ASC to provide transmission service to Conoco, Inc. pursuant to Ameren's Open Access Transmission Tariff.

Comment Date: September 13, 2002.

8. PJM Interconnection, L.L.C.

[Docket No. ER02-2491-000]

Take notice that on August 22, 2002, PJM Interconnection, L.L.C. (PJM) submitted for filing five executed interim interconnection service agreements between PJM and Handsome Lake Energy L.L.C., PPL Martins Creek LLC, and Pennsylvania Electric Company d/b/a GPU Energy, and an executed interconnection service agreement between PJM and Pennsylvania Electric Company.

PJM requests a waiver of the Commission's 60-day notice requirement to permit the effective dates agreed to by the parties.

Copies of this filing were served upon each of the parties to the agreements and the state regulatory commissions within the PJM region.

Comment Date: September 12, 2002.

9. Public Service Company of New Mexico

[Docket No. ER02-2492-000]

Take notice that on August 23, 2002, Public Service Company of New Mexico (PNM) submitted for filing an executed Network Integration Transmission Service Agreement (NITSA) and an associated Network Operating Agreement (NOA) with The Incorporated County of Los Alamos (County), dated July 30, 2002, under the terms of PNM's Open Access Transmission Tariff (OATT). The purpose of the NITSA and NOA is to facilitate electric transmission service for County, replacing several separate existing Service Agreements between PNM and County under which PNM heretofore provided such services to County. Service under the PNM-County NITSA and NOA commenced on August 1, 2002, and PNM is requesting that same date as the effective date for the NITSA and NOA. In conjunction with the NITSA and NOA, PNM and County are terminating the old Service Agreements. PNM's filing is available for public inspection at its offices in Albuquerque, New Mexico.

A copy of this filing has been served upon County and informational copies have been sent to the New Mexico Public Regulation Commission and the New Mexico Attorney General.

Comment Date: September 13, 2002.

10. Southern Company Services, Inc.

[Docket No. ER02-2493-000]

Take notice that on August 22, 2002, Southern Company Services, Inc., acting on behalf of Alabama Power Company, Georgia Power Company, Gulf Power Company, Mississippi Power Company, Savannah Electric and Power Company and Southern Electric Generating Company, tendered for Commission review information concerning the revised depreciation rates. The purpose of the filing is to secure Commission authority, as required by Order No. 618, to use revised depreciation rates for purposes of actual cost reconciliation under the following Commission jurisdictional contracts:

Unit Power Sale Agreements with Florida Power & Light Co.(Southern Operating Companies, Rate Schedule FERC No. 67), Florida Power Corporation (Southern Operating Companies, Rate Schedule FERC No. 66), and Jacksonville Electric Authority (Southern Operating Companies, Rate Schedule FERC No. 68); Scherer 4 Transmission Service Agreements with Jacksonville Electric Authority (GPCo, First Revised Rate Schedule No. 825) and Florida Power & Light Co. (GPCo, First Revised Rate Schedule No. 826); and Transmission Service Agreement with Entergy Power, Inc. (Southern Operating Companies, First Revised Rate Schedule FERC No. 78).

If permitted to be made effective as of January 1, 2002, for billing purposes, application of the revised depreciation rates will result in reductions in the costs and charges otherwise applicable under the affected contracts.

Comment Date: September 12, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-22420 Filed 9-3-02; 8:45 am]

BILLING CODE 6717-01-P